SOCIAL SECURITY ADMINISTRATION

[Docket No: SSA-2026-0034]

Agency Information Collection Activities: Proposed Request

The Social Security Administration (SSA) publishes a list of information collection packages requiring clearance by the Office of Management and Budget (OMB) in compliance with Public Law 104-13, the Paperwork Reduction Act of 1995, effective October 1, 1995. This notice includes extensions and revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

(SSA) Social Security Administration, OLCA, Attn: Reports Clearance Director, Mail Stop 3253 Altmeyer, 6401 Security Blvd., Baltimore, MD 21235, Fax: 833-410-1631, Email address: OR.Reports.Clearance@ssa.gov

Or you may submit your comments online through https://www.reginfo.gov/public/do/PRAmain by clicking on Currently under Review—Open for Public Comments and choosing to click on one of SSA's published items.

Please reference Docket ID Number [SSA-2026-0034] in your submitted response.

I. The information collections below are pending at SSA. SSA will submit them to OMB within 60 days from the date of this notice. To be sure we consider your comments, we must receive them no later than April 27, 2026. Individuals can obtain copies of the collection instrument by writing to the above email address.

1. Request to be Selected as a Payee—20 CFR 404.2010-404.2055, 416.601-416.665—0960-0014. SSA requires an individual applying to be a representative payee for a Social Security beneficiary or Supplemental Security Income (SSI) recipient to complete Form SSA-11-BK or supply the same information to a field office technician. SSA obtains information from applicant payees regarding their relationship to the beneficiary, personal qualifications; concern for the beneficiary's well-being; and intended use of benefits if appointed as payee. The respondents are individuals, private sector businesses and institutions, and State and local government institutions and agencies applying to become representative payees.

Type of Request: Revision of an OMB approved information collection.

Modality of collection | Number of respondents | Frequency of response | Average burden per response (minutes) | Estimated annual burden (hours) | Average theoretical hourly cost amount (dollars) * | Average wait time in field office or teleservice centers (minutes) ** | Total annual opportunity cost (dollars) ***
Individuals/Households (90%)
Representative Payee System (RPS) | 1,438,668 | 1 | 12 | 287,734 | * 32.66 | ** 37 | *** 38,372,659
Paper Version | 70,804 | 1 | 12 | 14,161 | * 32.66 |  | *** 462,498
Total | 1,509,472 |  |  | 301,895 |  |  | *** 38,835,157
Private Sector (9%)
Representative Payee System (RPS) | 144,427 | 1 | 12 | 28,885 | * 18.95 | ** 37 | *** 2,235,115
Paper Version | 7,080 | 1 | 12 | 1,416 | * 18.95 |  | *** 26,833
Total | 151,507 |  |  | 30,301 |  |  | *** 2,261,948
State/Local/Tribal Government (1%)
Representative Payee System (RPS) | 16,048 | 1 | 12 | 3,210 | * 22.64 | ** 37 | *** 296,720
Paper Version | 352 | 1 | 12 | 70 | * 22.64 |  | *** 1,585
Total | 16,400 | 1 | 12 | 3,280 | * 22.64 |  | *** 298,305
Grand Total | 1,677,379 |  |  | 335,576 |  |  | *** 41,395,410
* We based these figures on the hourly mean wages of U.S. workers; Personal Care and Service Workers; and Social and Human Service Assistances, as reported by Bureau of Labor Statistics data (Occupational Employment and Wage Statistics).
** We based this figure on the average combined FY 2026 wait times for field offices (21 minutes) and for teleservice centers (53 minutes which includes the average speed of answer of 12 minutes as well as the average 41-minute wait time for a call back from an SSA technician), based on SSA's current management information data. This figure reflects both data from our systems and the data posted on our public facing website (Social Security performance | SSA) on the date we drafted this document. As the figures fluctuate daily, the wait times may be different on the website than they appear here. We continue to monitor our website and management information data on call back times to ensure we report updated figures when possible.
*** This figure does not represent actual costs that SSA is imposing on recipients of Social Security payments to complete this application; rather, these are theoretical opportunity costs for the additional time respondents will spend to complete the application. There is no actual charge to respondents to complete the application.

2. Certificate of Responsibility for Welfare and Care of Child Not in Applicant's Custody—20 CFR 404.330, 404.339-404.341 and 404.348-404.349—0960-0019. SSA uses Form SSA-781 to determine if non-custodial parents who file for spouse, mother's, father's, or surviving divorced mother's or father's benefits based on having a child in their care, meet the child-in-care requirements. The child-in-care provision requires claimants to have an entitled child under age 16 or disabled in their care. The respondents are applicants for spouse's; mother's; father's; or surviving divorced mother's or father's Social Security benefits.

Type of Request: Revision of an OMB-approved information collection.

Modality of collection | Number of respondents | Frequency of response | Average burden per response (minutes) | Estimated annual burden (hours) | Average theoretical hourly cost amount (dollars) * | Average wait time in field office or teleservice centers (minutes) ** | Total annual opportunity cost (dollars) ***
SSA-781 | 478 | 1 | 5 | 40 | 32.66 * | 37 ** | 10,941 ***
* We based this figure on average U.S. citizen's hourly salary, as reported by Bureau of Labor Statistics data (Occupational Employment and Wage Statistics).
** We based this figure on the average combined FY 2026 wait times for field offices (21 minutes) and for teleservice centers (53 minutes which includes the average speed of answer of 12 minutes as well as the average 41-minute wait time for a call back from an SSA technician), based on SSA's current management information data. This figure reflects both data from our systems and the data posted on our public facing website (Social Security performance | SSA) on the date we drafted this document. As the figures fluctuate daily, the wait times may be different on the website than they appear here. We continue to monitor our website and management information data on call back times to ensure we report updated figures when possible.
**** This figure does not represent actual costs that SSA is imposing on recipients of Social Security payments to complete this application; rather, these are theoretical opportunity costs for the additional time respondents will spend to complete the application. There is no actual charge to respondents to complete the application.

3. Representative Payee Evaluation Report—20 CFR 404.2065 & 416.665—0960-0069. Sections 205(j) and 1631(a)(2) of the Act state that SSA may authorize payment of Social Security benefits or SSI payments to a representative payee on behalf of individuals unable to manage, or direct the management of, those funds themselves. SSA requires appointed representative payees to report once each year on how they used or conserved those funds. When a representative payee fails to adequately report to SSA, SSA conducts a face-to-face interview with the payee and completes Form SSA-624-F5, Representative Payee Evaluation Report, to determine the continued suitability of the representative payee to serve as a payee. In addition to interviewing the representative payee, we also interview the recipient, and custodian (if other than the payee), to confirm the information the payee provides, and to ensure the payee is meeting the recipient's current needs. However, we do not require the interviews to be face-to-face with non-representative payees. The respondents are individuals or organizations serving as representative payees for individuals receiving Title II benefits or Title XVI payments, and who fail to comply with SSA's statutory annual reporting requirement, and the recipients for whom they act as payee.

Type of Request: Revision of an OMB-approved information collection.

Modality of collection | Number of respondents | Frequency of response | Average burden per response (minutes) | Estimated annual burden (hours) | Average theoretical hourly cost amount (dollars) * | Average wait time in field office (minutes) | Total annual opportunity cost (dollars) ****
SSA-624-F5 (Individuals) | 6,453 | 1 | 30 | 3,227 | *32.66 | **21 | ****179,173
SSA-624-F5 (State and Local Government) | 38 | 1 | 30 | 19 | * 22.64 | ** 53 | **** 1,200
SSA-624-F5 (Businesses) | 260 | 1 | 30 | 130 | *18.27 | ** 53 | **** 6,577
Totals | 6,751 |  |  | 3,376 |  |  | **** 186,950
* We based these figures on the average U.S. worker's hourly wages; State and Local Government Social and Human Services Assistants; and Personal Care and Service Workers (Occupational Employment and Wage Statistics), as reported by Bureau of Labor Statistics data.
** We based these figures on the average FY 2026 wait times for field offices (21 minutes) and for teleservice centers (53 minutes which includes the average speed of answer of 12 minutes as well as the average 41-minute wait time for a call back from an SSA technician), based on SSA's current management information data. This figure reflects both data from our systems and the data posted on our public facing website (Social Security performance | SSA) on the date we drafted this document. As the figures fluctuate daily, the wait times may be different on the website than they appear here. We continue to monitor our website and management information data on call back times to ensure we report updated figures when possible.
*** This figure does not represent actual costs that SSA is imposing on recipients of Social Security payments to complete this application; rather, these are theoretical opportunity costs for the additional time respondents will spend to complete the application. There is no actual charge to respondents to complete the application.

4. Advanced Notice of Termination of Child's Benefits & Student's Statement Regarding School Attendance—20 CFR 404.350-404.352, 404.367-404.368—0960-0105. SSA collects information on Forms SSA-1372-BK and SSA-1372-BK-FC to determine whether children of an insured worked meet the eligibility requirements for student benefits. The data we collect allows SSA to determine student entitlement and assess whether to terminate benefits. SSA uses the SSA-1372-BK for domestic student claimants and the SSA-1372-BK-FC for student claimants living and attending school outside the United States. The respondents are student claimants for Social Security benefits, their respective schools and, in some cases, their representative payees.

Type of Request: Revision of an OMB-approved information collection.

SSA-1372-BK

Type of respondent | Number of respondents | Frequency of response | Average burden per response (minutes) | Estimated total annual burden (hours) | Average theoretical hourly cost amount (dollars) * | Average wait time in field office (minutes) ** | Total annual opportunity cost (dollars) ***
SSA-1372-BK (Students who return the form in-person) | 8,063 | 1 | 15 | 2,016 | * 14.27 | ** 21 | *** 69,038
SSA-1372-BK (Students who return the form by mail) | 198,351 | 1 | 15 | 49,588 | * 14.27 |  | *** 707,621
SSA-1372-BK State/Local/Tribal Government (Certifying school officials) | 216,593 | 1 | 10 | 36,099 | * 47.82 |  | *** 1,726,254
SSA-1372-BK (Rep Payees who return the form in-person) | 397 | 1 | 15 | 99 | * 32.66 | ** 21 | *** 7,806
SSA-1372-BK (Rep Payees who return the form by mail) | 9,782 | 1 | 15 | 2,446 | * 32.66 |  | *** 79,886
Totals | 433,186 |  |  | 90,248 |  |  | ***2,590,605

SSA-1372-BK-FC

Type of respondent | Number of respondents | Frequency of response | Average burden per response (minutes) | Estimated total annual burden (hours) | Average theoretical hourly cost amount (dollars) * | Total annual opportunity cost (dollars) ***
SSA-1372-BK-FC (Students) | 831 | 1 | 15 | 208 | * 14.27 | *** 2,968
SSA-1372-BK-FC State/Local/Tribal Government (Certifying school officials) | 871 | 1 | 10 | 145 | * 39.01 | *** 5,656
SSA-1372-BK-FC (Representative payees) | 40 | 1 | 15 | 10 | * 32.66 | *** 327
Totals | 1,742 |  |  | 363 |  | *** 8,951
Grand Total | 434,928 |  |  | 90,611 |  | *** 2,599,556
* We based these figures on average DI hourly wages for single students based on SSA's current FY 2026 data (Effect of COLA on Average Social Security Benefits); Education Administrator's hourly wages; and representative payee's hourly wages, as reported by Bureau of Labor Statistics (Occupational Employment and Wage Statistics).
** We based this figure on the average FY 2026 wait time for field offices (21 minutes), based on SSA's current management information data. This figure reflects both data from our systems and the data posted on our public facing website (Social Security performance | SSA) on the date we drafted this document. As the figures fluctuate daily, the wait times may be different on the website than they appear here. We continue to monitor our website and management information data on call back times to ensure we report updated figures when possible.
*** This figure does not represent actual costs that SSA is imposing on recipients of Social Security payments to complete this application; rather, these are theoretical opportunity costs for the additional time respondents will spend to complete the application. There is no actual charge to respondents to complete the application.

5. Vocational Rehabilitation Provider Claim—20 CFR 404.2108(b), 404.2117(c)(1) & (2), 404.2101(b)&(c), 404.2121(a), 416.2208(b), 416.2217(c)(1) & (2), 416.2201(b) & (c), 416.2221(a)—0960-0310. State vocational rehabilitation (VR) agencies submit Form SSA-199 to SSA to obtain reimbursement of costs incurred for providing VR services. SSA requires state VR agencies to submit reimbursement claims for the following categories:

(1) claiming reimbursement for VR services provided; (2) certifying adherence to cost containment policies and procedures; and (3) preparing causality statements. The respondents provide the information requested through a web-based Secure Ticket Portal, in lieu of submitting forms. This Portal allows VRs to retrieve reports, and enter and submit information electronically, minimizing the use of the paper form to SSA for consideration and approval of the claim for reimbursement of costs incurred for SSA beneficiaries. SSA uses the information on the SSA-199, along with the written documentation, to determine whether, and how much, to pay State VR agencies under SSA's VR program. Respondents are State VR agencies offering vocational and employment services to Social Security and SSI recipients.

Type of Request: Revision of an OMB-approved information collection.

Modality of completion | Number of respondents | Frequency of response | Number of responses | Average burden per response (minutes) | Estimated total annual burden (hours) | Average theoretical hourly cost amount (dollars) * | Total annual opportunity cost (dollars) ***
a. Claiming Reimbursement on SSA-199—20 CFR 404.2108(b) & 416.2208(b) | 78 | 303 | 23,634 | 23 | 9,060 | * 19.06 | ** 172,684
b. Certifying Adherence to Cost Containment Policy and Procedures—20 CFR 404.2117(c)(1) & (2), 416.2217(c)(1) & (2) & 34 CFR 361 | 78 | 1 | 78 | 60 | 78 | * 19.06 | ** 1,487
c. Preparing Causality Statements—20 CFR 404.2121(a), 404.2101(a), 416.2201(a), & 416.2221(a) | 78 | 3 | 234 | 100 | 390 | * 19.06 | ** 7,443
Totals | 234 |  | 23,946 |  | 9,528 | * 48.06 | ** 181,614
* We based this figure on the average Healthcare Support Occupations, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

6. Request for Social Security Statement—20 CFR 404.810—0960-0466. Section 205(c)(2)(A) of the Social Security Act (Act) requires the Commissioner of SSA to establish and maintain records of wages paid to, and amounts of self-employment income derived by each individual, as well as the periods in which such wages were paid, and such income derived. An individual may complete and mail Form SSA-7004 to SSA to obtain a Statement of Earnings or Quarters of Coverage, or they may access their statement online using my Social Security. SSA uses the information from Form SSA-7004 to identify a respondent's Social Security earnings records; extract posted earnings information; calculate potential benefit estimates; produce the resulting Social Security statements; and mail them to the requesters. The respondents are Social Security number (SSN) holders requesting information about their Social Security earnings records and estimates of their potential benefits.

Type of Request: Revision of an OMB-approved information collection.

Modality of completion | Number of respondents | Frequency of response | Average burden per response (minutes) | Estimated total annual burden (hours) | Average theoretical hourly cost amount (dollars) * | Total annual opportunity cost (dollars) ***
SSA-7004 | 21,155 | 1 | 5 | 1,763 | 32.66 * | 57,580 **
* We based this figure on the average U.S. worker's hourly wages, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

7. Medical Report on Adult with Allegation of Human Immunodeficiency Virus Infection; Medical Report on Child with Allegation of Human Immunodeficiency Virus Infection—20 CFR 416.933-416.934—0960-0500. Section 1631(e)(i) of the ACT authorizes the Commissioner of SSA to gather information to make a determination about an applicant's claim for SSI payments. Section 1631(a)(4) of the Act provides that the Commissioner may pay SSI payments to an applicant for a period not exceeding six months prior to the determination of the individual's disability, if the individual is presumptively disabled and is determined to be otherwise eligible for benefits; this procedure is called Presumptive Disability (PD). SSA uses Forms SSA-4814 and SSA-4815 to collect information necessary to determine if an individual with human immunodeficiency virus infection, who is applying for SSI disability benefits, meets the requirements for PD. The respondents are the medical sources of the applicants for SSI disability payments.

Type of Request: Revision of an OMB-approved information collection.

Modality of completion | Number of respondents | Frequency of response | Average burden per response (minutes) | Estimated total annual burden (hours) | Average theoretical hourly cost amount (dollars) * | Total annual opportunity cost (dollars) ***
SSA-4814 | 816 | 1 | 11 | 150 | * 19.06 | ** 2,859
SSA-4815 | 24 | 1 | 13 | 5 | * 19.06 | ** 95
Totals | 840 |  |  | 155 |  | ** 2,954
* We based this figure on the average Healthcare Support Occupations, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

8. Employer Verification of Records for Children Under Age 7—20 CFR 404.801-404.803, 404.821-404.822—0960-0505. To ensure we credit the correct person with the reported earnings, SSA verifies wage reports for children under age seven with the children's employers before posting to the earnings record. SSA uses form SSA-L3231, Request for Employer Information for this purpose. SSA technicians mail the form to the employer(s) and request they complete it and mail it back to the appropriate processing center. The respondents are employers who report earnings for children under age seven.

Type of Request: Revision of an OMB-approved information collection.

Modality of completion | Number of respondents | Frequency of response | Average burden per response (minutes) | Estimated total annual burden (hours) | Average theoretical hourly cost amount (dollars) * | Total annual opportunity cost (dollars) ***
SSA-L3231 | 15,923 | 1 | 15 | 3,981 | * 32.66 | ** 130,019
* We based this figure on the average U.S. worker's hourly wages, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

9. Disability Case Development Information Collections By State Disability Determination Services On Behalf of SSA—20 CFR 404.1503a, 404.1512, 404.1513, 404.1514, 404.1517, 404.1519; 20 CFR 404.1613, 404.1614, 404.1624; 20 CFR 416.903a, 416.912, 416.913, 416.914, 416.917, 416.919 and 20 CFR 416.1013, 416.1014, 416.1024—0960-0555. State Disability Determination Services (DDS) collect the information necessary to administer the Social Security Disability Insurance and SSI programs. They collect medical evidence from consultative examination (CE) sources; credential information from CE source applicants; and medical evidence of record (MER) from claimants' medical sources. The DDSs collect information from claimants regarding medical appointments, pain, symptoms, and impairments. The respondents are medical providers, other sources of MER, and disability claimants.

Type of Request: Revision of an OMB-approved information collection.

CE Collections

There are four CE information collections: (a) Medical evidence about claimants' medical condition(s) that DDS's use to make disability determinations when the claimant's own medical sources cannot or will not provide the required information, and proof of credentials from CE providers; (b) CE appointment letters; (c) CE claimant reports sent to claimants' doctors; and (d) One-time CE claimant telehealth call script/letter; (e) CE Claimant Telehealth CE Call Script/Letter; and (f) CE Claimant Text and Email CE Reminder Call Script/Letter.

(a) Medical Evidence and Credentials From CE Providers

Modality of completion | Number of respondents | Frequency of response | Average burden per response (minutes) | Estimated total annual burden (hours) | Average theoretical hourly cost amount (dollars) * | Total annual opportunity cost (dollars) ***
CE Paper Submissions | 81,909 | 1 | 30 | 40,955 | * 50.59 | ** 2,071,913
CE Electronic Submissions | 2,327,217 | 1 | 10 | 387,870 | * 50.59 | ** 19,622,343
CE Credentials | 4,000 | 1 | 15 | 1,000 | * 50.59 | ** 50,590
Totals | 2,413,126 |  |  | 429,825 |  | ** 21,744,846
* We based this figure on average Healthcare Practitioners and Technical Occupations hourly salary, as reported by Bureau of Labor Statistics (Occupational Employment and Wage Statistics).

(b) CE Appointment Letters and (c) CE Claimants' Report to Medical Providers

Modality of completion | Number of respondents | Frequency of response | Average burden per response (minutes) | Estimated total annual burden (hours) | Average theoretical hourly cost amount (dollars) * | Total annual opportunity cost (dollars) ***
(b) CE Appointment Letters | 3,065,444 | 1 | 5 | 255,454 | * 14.27 | ** 3,645,329
(c) CE Claimants Report to Medical Providers | 98,340 | 1 | 5 | 8,195 | * 14.27 | ** 116,943
Totals | 3,163,784 |  |  | 263,649 |  | ** 3,762,272
* We based these figures on average DI hourly wages for single students based on SSA's current FY 2026 data (Effect of COLA on Average Social Security Benefits).

(d) Travel Time to and Completion of CE

Modality of completion | Number of respondents | Frequency of response | Average burden per response (minutes) | Estimated total annual burden (hours) | Average theoretical hourly cost amount (dollars) * | Total annual opportunity cost (dollars) ***
Claimants travel time to and completion of CE | 1,687,077 | 1 | 60 | 1,687,077 | * 14.27 | ** 24,074,589
* We based these figures on average DI hourly wages for single students based on SSA's current FY 2026 data (Effect of COLA on Average Social Security Benefits).

(e) CE Claimant Telehealth CE Call Script/Letter

Modality of completion | Number of respondents | Frequency of response | Average burden per response (minutes) | Estimated total annual burden (hours) | Average theoretical hourly cost amount (dollars) * | Total annual opportunity cost (dollars) ***
CE Claimant Telehealth Call Script/Letter | 165,000 | 1 | 5 | 13,750 | * 214.27 | ** 196,213
* We based these figures on average DI hourly wages for single students based on SSA's current FY 2026 data (Effect of COLA on Average Social Security Benefits).

(f) CE Claimant Text and Email CE Reminder Call Script/Letter

Modality of completion | Number of respondents | Frequency of response | Average burden per response (minutes) | Estimated total annual burden (hours) | Average theoretical hourly cost amount (dollars) * | Total annual opportunity cost (dollars) ***
CE Claimant Text and Email Reminder Call Script/Letter | 1,175,536 | 1 | 4 | 78,369 | * 14.27 | ** 1,118,326
* We based these figures on average DI hourly wages for single students based on SSA's current FY 2026 data (Effect of COLA on Average Social Security Benefits).

Category II MER Collections

The DDS's collect MER information from the claimant's medical sources to determine a claimant's physical or mental status prior to making a disability determination.

Modality of completion | Number of respondents | Frequency of response | Average burden per response (minutes) | Estimated total annual burden (hours) | Average theoretical hourly cost amount (dollars) * | Total annual opportunity cost (dollars) ***
Paper Submissions | 1,444,747 | 1 | 20 | 481,582 | * 50.59 | ** 23,631,228
Electronic Submissions | 12,659,061 | 1 | 12 | 2,531,812 | * 50.59 | ** 124,236,015
Totals | 14,103,808 |  |  | 3,013,394 |  | ** 147,867,243
* We based this figure on average Healthcare Practitioners and Technical Occupations hourly salary, as reported by Bureau of Labor Statistics (Occupational Employment and Wage Statistics).

Category III—Symptoms/Impairment/Other Information

Modality of completion | Number of respondents | Frequency of response | Average burden per response (minutes) | Estimated total annual burden (hours) | Average theoretical hourly cost amount (dollars) * | Total annual opportunity cost (dollars) ***
Seizure Questionnaire—Adult | 54,372 | 1 | 20 | 18,124 | * 14.27 | ** 258,629
Seizure Witness Questionnaire—Adult | 8,765 | 1 | 20 | 2,922 | * 32.66 | ** 95,422
Headache Questionnaire—Adult | 50,839 | 1 | 20 | 16,946 | * 14.27 | ** 241,824
Request for Third Party | 126,577 | 1 | 5 | 10,548 | * 14.27 | ** 150,520
Totals | 240,553 |  |  | 48,540 |  | ** 746,395
* We based these figures on average DI hourly wages for single students based on SSA's current FY 2026 data (Effect of COLA on Average Social Security Benefits), and the average U.S. worker's hourly wages, as reported by Bureau of Labor Statistics (Occupational Employment and Wage Statistics).

Grand Total

Modality of completion | Number of respondents | Frequency of response | Average burden per response (minutes) | Estimated total annual burden (hours) | Average theoretical hourly cost amount (dollars) * | Total annual opportunity cost (dollars) ***
Totals | 22,948,884 |  |  | 5,534,604 |  | ** 199,509,884
** These figures do not represent actual costs that SSA is imposing on recipients of Social Security payments to complete this application; rather, these are theoretical opportunity costs for the additional time respondents will spend to complete the application. There is no actual charge to respondents to complete the application.

10. Employer Reports of Special Wage Payments—20 CFR 404.428-404.429—0960-0565. SSA collects information on the SSA-131 to prevent earnings-related overpayments, and to avoid erroneous withholding of benefits. SSA field offices and program service centers also use Form SSA-131 for awards and post-entitlement events requiring special wage payment verification from employers. While we need this information to ensure the correct payment of benefits, we do not require employers to respond. The respondents are large and small businesses that make special wage payments to retirees.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
Paper Version: SSA-131 (without #6) | 26,854 | 1 | 20 | 8,951 | * 45.15 | ** 21 | *** 828,503
Paper Version: SSA-131 (#6 only) | 271 | 1 | 2 | 9 | * 45.15 | ** 21 | *** 4,696
Electronic Version: Business Services Online Special Wage Payments | 90,023 | 1 | 5 | 7,502 | * 45.15 |  | *** 338,715
Totals | 117,148 |  |  | 16,462 |  |  | *** 1,171,914
* We based this figure on average Budget Analysts hourly salary, as reported by Bureau of Labor Statistics data, at: (Occupational Employment and Wage Statistics).
** We based this figure on the average FY 2026 wait time for field offices (21 minutes), based on SSA's current management information data. This figure reflects both data from our systems and the data posted on our public facing website (Social Security performance | SSA) on the date we drafted this document. As the figures fluctuate daily, the wait times may be different on the website than they appear here. We continue to monitor our website and management information data on call back times to ensure we report updated figures when possible.
*** This figure does not represent actual costs that SSA is imposing on recipients of Social Security payments to complete this application; rather, these are theoretical opportunity costs for the additional time respondents will spend to complete the application. There is no actual charge to respondents to complete.

11. Complaint Form for Allegations of Discrimination in Programs or Activities Conducted by the Social Security Administration—0960-0585. SSA uses Form SSA-437 to investigate and formally resolve complaints of discrimination based on disability, race, color, national origin (including limited English language proficiency), sex (including sexual orientation and gender identity), age, religion, or retaliation for having participated in a proceeding under this administrative complaint process in connection with an SSA program or activity. Individuals who believe SSA discriminated against them on any of the above bases may file a written complaint of discrimination. SSA uses the information to: (1) identify the complaint; (2) identify the alleged discriminatory act; (3) establish the date of such alleged action; (4) establish the identity of any individual(s) with information about the alleged discrimination; and (5) establish other relevant information that would assist in the investigation and resolution of the complaint. Respondents are individuals who believe SSA, or SSA employees, contractors, or agents, discriminated against them in connection with programs or activities conducted by SSA.

Type of Request: Revision on an OMB-approved information collection.

Modality of completion | Number of respondents | Frequency of response | Average burden per response (minutes) | Estimated total annual burden (hours) | Average theoretical hourly cost amount (dollars) * | Total annual opportunity cost (dollars) ***
SSA-437 | 600 | 1 | 60 | 600 | * 23.47 | ** 14,082
* We based this figure by averaging both the average DI payments based on SSA's current FY 2026 data (Effect of COLA on Average Social Security Benefits), and the average U.S. worker's hourly wages, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

12. Private Printing and Modification of Prescribed Application and Other Forms—20 CFR 422.527—0960-0663. 20 CFR 422.527 of the Code of Federal Regulations requires a person, institution, or organization (third-party entities) to obtain approval from SSA prior to reproducing, duplicating, or privately printing any application or other form the agency owns. To obtain SSA's approval, entities must make their requests in writing using their company letterhead, providing the required information set forth in the regulation. SSA uses the information to: (1) ensure requests comply with the law and regulations, and (2) process requests from third-party entities who want to reproduce, duplicate, or privately print any SSA application or other SSA form. SSA employees review the requests and provide approval via email or mail to the third-party entities. The respondents are third-party entities who submit a request to SSA to reproduce, duplicate, or privately print an SSA-owned form.

Type of Request: Extension of an OMB-approved information collection.

Modality of completion | Number of respondents | Frequency of response | Number of responses | Average burden per response (minutes) | Estimated total annual burden (hours) | Average theoretical hourly cost amount (dollars) * | Total annual opportunity cost (dollars) **
20 CFR 422.527 | 10 | 15 | 150 | 10 | 25 | * 18.95 | ** 474
* We based this figure on the average Personal Care and Service occupations hourly wages, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

13. International Direct Deposit—31 CFR 210—0960-0686. SSA's International Direct Deposit (IDD) Program allows beneficiaries living abroad to receive their payments via direct deposit to an account at a financial institution outside the United States. SSA uses Form SSA-1199—(Country) to enroll Title II beneficiaries residing abroad in IDD, and to obtain the direct deposit information for foreign accounts. Routing account number information varies slightly for each foreign country, so we use a variation of the Treasury Department's Form SF-1199A for each country. The respondents are Social Security beneficiaries residing abroad who want SSA to deposit their Title II benefit payments directly to a foreign financial institution.

Type of Request: Revision of an OMB-approved information collection.

Modality of completion | Number of respondents | Frequency of response | Average burden per response (minutes) | Estimated total annual burden (hours) | Average theoretical hourly cost amount (dollars) * | Total annual opportunity cost (dollars) **
SSA-1199—(Country) | 54,720 | 1 | 5 | 4,560 | * 32.66 | ** 148,930
* We based this figure on the average U.S. worker's hourly wages, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

14. Letter to Custodian of Birth Records—20 CFR 404.704, and 422.103-422.110—0960-0693. When individuals need help in obtaining evidence of their age in connection with SSN card applications and claims for benefits, SSA prepares the SSA-L706, Letter to Custodian of Birth Records. SSA uses Form SSA-L706 to verify the proof of age when an SSN applicant submits a birth record that is deemed questionable in the Social Security Number Application Process (SSNAP) system. In most of the cases, we verify birth records (i.e., birth certificates) with the custodian of the record or issuing entity before processing the SSN card application via an online query such as the Electronic Verification of Vital Events (EVVE) or SSA-approved online access to State vital records. However, when the applicant submits alternative evidence to request an original SSN card or to correct a date of birth (DOB) that SSA cannot verify via an online query (i.e., the custodian/issuing entity of the birth record is a hospital or health care provider), we use the SSA-L706 to verify proof of age for enumeration purposes. The SSNAP system pre-fills a PDF version of the SSA-L706 using information from the SSN application to ensure accuracy and save time. SSA uses the letter to verify with the custodian or issuing entity, when necessary, the authenticity of the record the SSN applicant or claimant submitted. SSA mails the SSA-L706 to the respondents to complete and mail or fax back the completed form back to us. The respondents are SSN applicants who sign the request; State and local bureaus or agencies of vital statistics, and religious entities who submit the information regarding evidence of age for the SSN applicant.

Type of Request: Revision of an OMB-approved information collection.

Modality of completion | Number of respondents | Frequency of response | Average burden per response (minutes) | Estimated total annual burden (hours) | Average theoretical hourly cost amount (dollars) * | Average wait time in field office (minutes) **
SSA-L706—(SSNAP) | 573 | 1 | 10 | 96 | * 24.14 | ** 2,317
SSA-L706—(Respondents Signature Only) | 573 | 1 | 1 | 10 | * 32.66 | ** 327
Totals | 1,146 |  |  | 106 |  | ** 2,644
* We based these figures on the average U.S. worker's hourly wages (Occupational Employment and Wage Statistics) and on the average Information and Record Clerks hourly wage (Occupational Employment and Wage Statistics) as reported by Bureau of Labor Statistics data.
** This figure does not represent actual costs that SSA is imposing on recipients of Social Security payments to complete this application; rather, these are theoretical opportunity costs for the additional time respondents will spend to complete the application. There is no actual charge to respondents to complete the application.

15. Technical Updates to Applicability of the Supplemental Security Income Reduced Benefit Rate for Individuals Residing in Medical Treatment Facilities—20 CFR 416.708(k)—0960-0758. Section 1611(e)(1)(A) of the Act specifies residents of public institutions are ineligible for SSI. However, Sections 1611(e)(1)(B) and (G) of the Act list certain exceptions to this provision, making it necessary for SSA to collect information about SSI recipients who enter or leave a medical treatment facility or other public or private institution. SSA's regulation 20 CFR 416.708(k) establishes the reporting guidelines that implement this legislative requirement. SSA uses this information collection to determine SSI eligibility or the benefit amount for SSI recipients who enter or leave institutions. SSA personnel collect this information directly from SSI recipients, or from someone reporting on their behalf. An SSI recipient who enters an institution may be unable to report; therefore, a family member sometimes makes this report on behalf of the recipient. When contacting SSA, the recipient, or family member of the recipient, provides the name of the institution, the date of admission, and the expected date of discharge. The respondents are SSI recipients who enter or leave an institution, or individuals reporting on their behalf.

Type of Request: Extension of an OMB-approved information collection.

Modality of completion | Number of respondents | Frequency of response | Average burden per response (minutes) | Estimated total annual burden (hours) | Average theoretical hourly cost amount (dollars) * | Average wait time in field office (minutes) ** | Total annual opportunity cost (dollars) ***
Technical Updates Statement/Institutional Residents Screens | 184,956 | 1 | 7 | 21,578 | * 23.47 | ** 21 | *** 2,025,766
* We based this figure by averaging both the average DI payments based on SSA's current FY 2026 data (Effect of COLA on Average Social Security Benefits) and the average U.S. worker's hourly wages (Occupational Employment and Wage Statistics) as reported by Bureau of Labor Statistics data.
** We based this figure on the average FY 2026 wait time for field offices (21 minutes), based on SSA's current management information data. This figure reflects both data from our systems and the data posted on our public facing website (Social Security performance | SSA) on the date we drafted this document. As the figures fluctuate daily, the wait times may be different on the website than they appear here. We continue to monitor our website and management information data on call back times to ensure we report updated figures when possible.
*** This figure does not represent actual costs that SSA is imposing on recipients of Social Security payments to complete this application; rather, these are theoretical opportunity costs for the additional time respondents will spend to complete the application. There is no actual charge to respondents to complete the application.

16. Application Status—20 CFR 401.45—0960-0763. Application Status provides users with the capability to check the status of their pending Social Security claims via the National 800 Number Automated Telephone Service. Users need their SSN and a confirmation number to access this information. SSA systems determine the type of claim(s) the caller filed based upon the information provided. Subsequently, the automated telephone system provides callers with the option to choose the claim for which they wish to obtain status. If the caller applied for multiple claims, the automated system allows the caller to select only one claim at a time. Once callers select the claim(s) they are calling about, an automated voice advises them of the status of their claim. The respondents are current Social Security claimants who wish to check on the status of their claims.

Type of Request: Revision of an OMB-approved information collection.

Modality of completion | Number of respondents | Frequency of response | Average burden per response (minutes) | Estimated total annual burden hours (hours) | Average theoretical hourly cost (dollars) * | Average wait for teleservice centers (minutes) ** | Total annual opportunity cost (dollars) ***
Application Status | 2,707,599 | 1 | 7 | 315,887 | * 23.47 | ** 12 | *** 20,123,342
* We based this figure by averaging both the average DI payments based on SSA's current FY 2022 data (Effect of COLA on Average Social Security Benefits), and the average U.S. worker's hourly wages, as reported by Bureau of Labor Statistics data (Occupational Employment and Wage Statistics.
** We based this figure on the average FY 2026 wait times for teleservice centers (which includes the average speed of answer of 12 minutes), based on SSA's current management information data. This figure reflects both data from our systems and the data posted on our public facing website (Social Security performance | SSA) on the date we drafted this document. As the figures fluctuate daily, the wait times may be different on the website than they appear here. We continue to monitor our website and management information data on call back times to ensure we report updated figures when possible.
*** This figure does not represent actual costs that SSA is imposing on recipients of Social Security payments to complete this application; rather, these are theoretical opportunity costs for the additional time respondents will spend to complete the application. There is no actual charge to respondents to complete the application.

17. Protection and Advocacy for Beneficiaries of Social Security (PABSS)—20 CFR 435.51-435.52—0960-0768. The PABSS projects are part of Social Security's strategy to increase the number of Social Security Disability Insurance (SSDI) or SSI recipients who return to work and achieve financial independence and self-sufficiency as the result of receiving support, representation, advocacy, or other services. PABSS provides: (1) Information and advice about obtaining vocational rehabilitation and employment services; and (2) advocacy or other services a beneficiary with a disability may need to secure, maintain, or regain gainful employment. The PABSS Annual Program Performance Report collects statistical information from each of the PABSS projects in an effort to manage and capture program performance and quantitative data. Social Security uses the information to evaluate the efficiency of the program, and to ensure beneficiaries are receiving quality services. The project data is valuable to Social Security in its analysis of and future planning for the SSDI and SSI programs. The respondents are the 57 PABSS project sites, and recipients of SSDI and SSI programs.

Type of Request: Revision of an OMB-approved information collection.

Modality of completion | Number of respondents | Frequency of response | Average burden per response (minutes) | Estimated total annual burden (hours) | Average theoretical hourly cost amount (dollars) ** | Total annual opportunity cost (dollars) ***
PABSS Program Grantees (SSA-4570) | * 1 | 1 | 1 | 1 | 1 | 1
Web-based Reporting System (SSA-4570) | 57 | 1 | 2,400 | 2,280 | ** 34.05 | *** 77,634
Totals | 57 |  |  | 2,280 |  | *** 77,634
* We are placing a place holder for form SSA-4570, as SSA will only use the paper version of the SSA-4570 as a backup collection instrument if the SSA-4570 Web-based Reporting System becomes unavailable. As such, we do not anticipate any respondents will use the PDF form under normal circumstances, therefore, we are placing a placeholder
** We based this figure on the average DI payments based on SSA's current FY 2026 data (Effect of COLA on Average Social Security Benefits) and on the average Computer Systems Analyst hourly wages (Occupational Employment and Wage Statistics), as reported by Bureau of Labor Statistics data.
*** This figure does not represent actual costs that SSA is imposing on recipients of Social Security payments to complete this application; rather, these are theoretical opportunity costs for the additional time respondents will spend to complete the application. There is no actual charge to respondents to complete the application.

18. Methods for Conducting Personal Conferences When Waiver of Recovery of a Title II or Title XVI Overpayment Cannot Be Approved—20 CFR 404.506 & 416.557—0960-0769. SSA conducts personal conferences when we cannot approve a waiver of recovery of a Title II or Title XVI overpayment. The Act and our regulatory citations require SSA to give overpaid Social Security beneficiaries and SSI recipients the right to request a waiver of recovery and automatically schedule a personal conference if we cannot approve their request for waiver of overpayment. We conduct these conferences face-to-face, via telephone, or through video teleconferences. Social Security beneficiaries and SSI recipients or their representatives may provide documents to demonstrate they are without fault in causing the overpayment and do not have the ability to repay the debt. They may submit these documents by completing Form SSA-632, Request for Waiver of Overpayment Recovery (OMB No. 0960-0037); Form SSA-795, Statement of Claimant or Other Person (OMB No. 0960-0045); or through a personal statement submitted by mail, telephone, personal contact, or other suitable method, such as fax or email. This information collection satisfies the requirements for request for waiver of recovery of an overpayment and allows individuals to pursue further levels of administrative appeal via personal conference. Respondents are Social Security Title II beneficiaries and Title XVI SSI recipients or their representative's seeking reconsideration of an SSA waiver decision.

Type of Request: Extension of an OMB-approved information collection.

Modality of completion | Number of respondents | Frequency of response | Average burden per response (minutes) | Estimated total annual burden (hours) | Average theoretical hourly cost amount (dollars) * | Average wait time in field office or field office telephone call (minutes) ** | Total annual opportunity cost (dollars) ***
Title II, Title XVI, Title XVIII Personal Conferences
Title II, Personal Conference (in-office), 404.506: submittal of additional documents, additional mitigating financial information, and verifications for consideration at personal conferences | 12,950 | 1 | 45 | 9,713 | * 23.47 | ** 21 | *** 334,354
Title II, Personal Conference (telephone), 404.506: submittal of additional documents, additional mitigating financial information, and verifications for consideration at personal conferences | 12,950 | 1 | 45 | 9,713 | * 23.47 | ** 53 | *** 496,437
Title XVI, Personal Conference (in-office), 416.557: submittal of additional documents, additional mitigating financial information, and verifications at personal conferences. | 10,250 | 1 | 45 | 7,688 | * 23.47 | ** 21 | *** 264,648
Title XVI, Personal Conference (telephone), 416.557: submittal of additional documents, additional mitigating financial information, and verifications at personal conferences. | 10,250 | 1 | 45 | 7,688 | * 23.47 | ** 53 | *** 392,935
Title XVIII, Personal Conference, 422.310 (in office); submittal of additional documents, additional mitigating financial information, and verifications at personal conferences. | 3 | 1 | 45 | 2 | * 23.47 | ** 21 | *** 70
Totals | 46,403 |  |  | 34,804 |  |  | *** 1,488,444
* We based this figure on the average DI payments based on SSA's current FY 2026 data (Effect of COLA on Average Social Security Benefits) and on the average U.S worker's hourly wages (Occupational Employment and Wage Statistics), as reported by Bureau of Labor Statistics data.
** We based this figure on the average FY 2026 wait times for field offices (21 minutes) and for teleservice centers (53 minutes which includes the average speed of answer of 12 minutes as well as the average 41-minute wait time for a call back from an SSA technician), based on SSA's current management information data. This figure reflects both data from our systems and the data posted on our public facing website (Social Security performance | SSA) on the date we drafted this document. As the figures fluctuate daily, the wait times may be different on the website than they appear here. We continue to monitor our website and management information data on call back times to ensure we report updated figures when possible.
*** This figure does not represent actual costs that SSA is imposing on recipients of Social Security payments to complete this application; rather, these are theoretical opportunity costs for the additional time respondents will spend to complete the application. There is no actual charge to respondents to complete the application.

19. Centenarian and Medicare Non-Utilization Project Development Worksheets: Face-to-Face Interview and Telephone Interview—20 CFR 416.204(b) and 422.135—0960-0780. SSA conducts interviews with centenary Title II beneficiaries and Title XVI recipients, and Medicare Non-Utilization Project (MNUP) beneficiaries age 90 and older to: (1) assess if the beneficiaries are still living; (2) prevent fraud through identity misrepresentation; and (3) evaluate the well-being of the recipients to determine if they need a representative payee, or a change in representative payee. SSA field office personnel obtain the information through one-time, in-person interviews with the centenarians and MNUP beneficiaries, who are those Title II beneficiaries ages 90-99, who show non-utilization of Medicare benefits for an extended period and the absence of private insurance, health maintenance organization, or nursing home, which are all indicators that an individual may be deceased. If the centenarians and MNUP beneficiaries have representatives or caregivers, SSA personnel invite them to the interviews. During these interviews, SSA employees make overall observations of the centenarians, MNUP beneficiaries, and their representative payees (if applicable). The interviewer uses the appropriate Development Worksheet as a guide for the interview, in addition to documenting findings during the interview. SSA conducts the interviews either over the telephone or through a face-to-face discussion with the respondents either in a field office, or at the Centenarian or MNUP beneficiary's residence. Respondents are MNUP and Centenarian beneficiaries, and their representative payees, or their caregivers.

Type of Request: Revision of an OMB-approved information collection.

Modality of completion | Number of respondents | Frequency of response | Average burden per response (minutes) | Estimated total annual burden (hours) | Average theoretical hourly cost amount (dollars) * | Average wait time in field office or teleservice centers (minutes) ** | Total annual opportunity cost (dollars) ***
MNUP | 4,404 | 1 | 15 | 1,101 | * 32.66 | ** 37 | *** 124,663
International Centenarian Project | 4,220 | 1 | 15 | 1,055 | * 32.66 | ** 37 | *** 119,438
Totals | 8,624 |  |  | 2,156 |  |  | *** 244,101
* We based this figure on the average U.S. worker's hourly wages, as reported by Bureau of Labor Statistics data (Occupational Employment and Wage Statistics).
** We based this figure on the average combined FY 2026 wait times for field offices (21 minutes) and for teleservice centers (53 minutes which includes the average speed of answer of 12 minutes as well as the average 41-minute wait time for a call back from an SSA technician), based on SSA's current management information data. This figure reflects both data from our systems and the data posted on our public facing website (Social Security performance | SSA) on the date we drafted this document. As the figures fluctuate daily, the wait times may be different on the website than they appear here. We continue to monitor our website and management information data on call back times to ensure we report updated figures when possible.
*** This figure does not represent actual costs that SSA is imposing on recipients of Social Security payments to complete this application; rather, these are theoretical opportunity costs for the additional time respondents will spend to complete the application. There is no actual charge to respondents to complete the application.

Dated: February 23, 2026.
Mark Steffensen,
General Counsel, Deputy Commissioner for Law and Policy, Social Security Administration.

[FR Doc. 2026-03843 Filed 2-25-26; 8:45 am]

BILLING CODE 4191-02-P